DEPARTMENT OF THE INTERIOR

National Park Service

[NPS-IMR-VALL-33293; PPIMVALL10; PPMPSPD1Z.YM0000; 222P103601]

Assessment of Eligible and Ineligible Lands for Consideration as Wilderness Areas, Valles Caldera National Preserve

AGENCY: National Park Service, Interior.

ACTION: Notice of intent to assess Valles Caldera National Preserve lands for wilderness eligibility.

SUMMARY: Pursuant to the Wilderness Act of 1964, and in accordance with National Park Service (NPS) Management Policies (2006), Section 6.2.1, the NPS has initiated an assessment of lands within the authorized boundary of Valles Caldera National Preserve for their eligibility for inclusion in the national wilderness preservation system.

DATES: The eligibility assessment will be formally initiated on July 12, 2022.

ADDRESSES: A map of lands to be assessed is on file at Valles Caldera National Preserve Headquarters, 90 Villa Louis Martin, Jemez Springs, NM 87025.

FOR FURTHER INFORMATION CONTACT: Information about the wilderness character of these lands, and requests for information about the eligibility assessment process, should be directed to: Brian Smith, Valles Caldera National Preserve, Environmental Protection Specialist, 575-829-4100, vall_compliance@nps.gov, or by mail at Valles Caldera National Preserve, PO Box 359, Jemez Springs, New Mexico 87025.

SUPPLEMENTARY INFORMATION: NPS Management Policies (2006) Section 6.2.1 requires that “All lands administered by the National Park Service, including new units or additions to existing units since 1964, will be evaluated for their eligibility for inclusion in the national wilderness preservation system.” The lands to be assessed at Valles Caldera National Preserve include approximately 88,900 acres designated to be managed by the National Park Service since 2014 by Section 3043 of Public Law 113-291 (December 19, 2014).

Section 6.2.1.1 and 6.2.1.2 of NPS Management Policies (2006) describe the primary eligibility criteria and additional considerations in determining eligibility that will be used during the assessment process. Pursuant to Section 6.2.1.3 of NPS Management Policies (2006), the determination of an area's eligibility, or ineligibility, for further study will be approved by the Director before publication of the final eligibility determination in the Federal Register.

For areas determined to be ineligible for wilderness designation, the wilderness preservation provisions in the NPS Management Policies (2006) would not apply (NPS Management Policies (2006) Section 6.2.1.3). However, ineligible lands will continue to be managed in accordance with the NPS Organic Act and all other laws, executive orders, regulations, and policies applicable to units of the national park system.

Lands and waters found to possess the characteristics and values of wilderness, as defined in the Wilderness Act and determined eligible pursuant to the wilderness eligibility assessment, will be formally studied to develop the recommendation to Congress for wilderness designation (NPS Management Policies (2006), Section 6.2.2). The wilderness study will be supported by appropriate documentation of compliance with the National Environmental Policy Act and the National Historic Preservation Act.

Michael Reynolds,
Regional Director, Interior Regions 6, 7, & 8.

[FR Doc. 2022-14833 Filed 7-11-22; 8:45 am]

BILLING CODE 4312-52-P